DEPARTMENT OF COMMERCE

International Trade Administration

[A-570-933]

Frontseating Service Valves From the People's Republic of China; 2010-2011 Antidumping Duty Administrative Review; Final Results

AGENCY: Import Administration, International Trade Administration, Department of Commerce.

SUMMARY: On May 4, 2012, the Department published its Preliminary Results in the antidumping duty administrative review of frontseating service valves from the People's Republic of China.¹ The period of review (“POR”) is April 1, 2010, through March 31, 2011. We have determined that neither Zhejiang DunAn Hetian Metal Co., Ltd. (“DunAn”) nor Zhejiang Sanhua Co., Ltd. (“Sanhua”), the only companies covered by this review, made sales in the United States at prices below normal value (“NV”). We invited interested parties to comment on our Preliminary Results. Based on our analysis of the comments received, we made changes to our margin calculations for DunAn and Sanhua. The final dumping margins for this review are listed in the “Final Results Margins” section below.

¹ See Frontseating Service Valves from the People's Republic of China: Preliminary Results of the 2010-2011 Antidumping Duty Administrative Review, 77 FR 26489 (May 4, 2012).

DATES: Effective Date: November 9, 2012.

FOR FURTHER INFORMATION CONTACT: Laurel LaCivita, Brooke Kennedy, or Eugene Degnan, AD/CVD Operations, Office 8, Import Administration, International Trade Administration, U.S. Department of Commerce, 14th Street and Constitution Avenue NW., Washington, DC 20230; telephone: (202) 482-4243, (202) 482-3818, and (202) 482-0414, respectively.

Background

On May 4, 2012, the Department published its Preliminary Results in the antidumping duty administrative review of frontseating service valves from the People's Republic of China.² On June 1, 2012, Petitioner ³ requested a hearing for issues raised in the case and rebuttal briefs.⁴ On June 1, 2011, DunAn submitted its 5th supplemental questionnaire response reporting factors of production (“FOPs”) for its unaffiliated brass tollers.⁵

² See id.

³ Parker-Hannifin Corporation (“Parker-Hannifin”), Petitioner in the underlying investigation.

⁴ See letter from Parker-Hannifin, “Frontseating Service Valves from the People's Republic of China,” dated June 1, 2012.

⁵ See Letter from DunAn, “DunAn's Fifth Supplemental Questionnaire Response; Second Administrative Review of the Antidumping Duty Order on Frontseating Service Valves from the People's Republic of China,” dated June 1, 2012.

On June 11, 2012, Petitioner and DunAn submitted publicly available surrogate value (“SV”) data to value respondents' factors of production.⁶ On June 21, 2012, DunAn and Sanhua submitted rebuttal SV comments on the June 11, 2012 submissions.⁷ We received case briefs from Petitioner and DunAn on July 12, 2012,⁸ and rebuttal briefs from all parties on July 23, 2012.⁹ On August 6, 2012, Petitioner withdrew its request for a hearing.¹⁰

⁶ See Letter from Petitioner, “Petitioner's Submission of Surrogate Values for Final Results in the Second Administrative Review of Certain Frontseating Service Valves from the People's Republic of China: Case No. A-570-933,” dated June 1, 2011; see also, Letter from DunAn, “DunAn's Post-Preliminary Surrogate Value Submission: Second Administrative Review of the Antidumping Duty Order on Frontseating Service Valves from the People's Republic of China,” dated June 11, 2012.

⁷ See letter from DunAn, “Post-Preliminary Surrogate Value Rebuttal Submission: Second Administrative Review of the Antidumping Duty Order on Frontseating Service Valves from the People's Republic of China,” dated June 21, 2012; see also letter from Sanhua, “Frontseating Service Valves from the People's Republic of China; A-570-933; Surrogate Value Rebuttal Comments for the Final Results by Zhejiang Sanhua Co., Ltd.,” dated June 21, 2012.

⁸ See letter from Parker-Hannifin, “Frontseating Service Valves from the People's Republic of China: Petitioner's Case Brief,” dated July 12, 2012; see letter from DunAn, “Case Brief: Second Administrative Review of the Antidumping Duty Order on Frontseating Service Valves from the People's Republic of China,” dated July 12, 2012.

⁹ See letter from Parker-Hannifin, “Frontseating Service Valves from the People's Republic of China: Petitioner's Rebuttal Brief,” dated July 23, 2012; see letter from DunAn, “Rebuttal Case Brief: Second Administrative Review of the Antidumping Duty Order on Frontseating Service Valves from the People's Republic of China,” dated July 23, 2012; and, see letter from Sanhua, “Certain Frontseating Service Valves from the People's Republic of China; A-570-933; Rebuttal Brief of Zhejiang Sanhua Co., Ltd.,” dated July 23, 2012.

¹⁰ See letter from Petitioner, “Frontseating Service Valves from the People's Republic of China: Request for Hearing,” dated August 6, 2012.

On August 17, 2012, the Department originally extended the deadline for the final results of review to October 31, 2012.¹¹ As explained in the memorandum from the Assistant Secretary for Import Administration, the Department has exercised its discretion to toll deadlines for the duration of the closure of the Federal Government from October 29, through October 30, 2012. Thus, all deadlines in this segment of the proceeding have been extended by two days. The revised deadline for the final results of this review is now Friday, November 2, 2012.¹²

¹¹ See Extension of the Deadline for Final Results.

¹² See Memorandum to the Record from Paul Piquado, AS for Import Administration, regarding “Tolling of Administrative Deadlines As a Result of the Government Closure During the Recent Hurricane,” dated October 31, 2012.

Analysis of Comments Received

All issues raised in the case and rebuttal briefs filed by parties in this review are addressed in the Memorandum from Christian Marsh, Deputy Assistant Secretary for Antidumping and Countervailing Duty Operations, to Paul Piquado, Assistant Secretary for Import Administration, “Frontseating Service Valves from the People's Republic of China: Issues and Decision Memorandum for the Final Results of the 2010-2011 Administrative Review (“Issues and Decision Memorandum”),” dated concurrently with, and hereby adopted by, this notice. A list of the issues that parties raised and to which we responded in the Issues and Decision Memorandum follows as an appendix to this notice. The Issues and Decision Memorandum is a public document and is on file electronically via Import Administration's Antidumping and Countervailing Duty Centralized Electronic Service System (“IA ACCESS”). IA ACCESS is available to registered users at http://iaaccess.trade.gov and in the Central Records Unit (“CRU”), room 7046 of the main Department of Commerce building. In addition, a complete version of the Issues and Decision Memorandum can be accessed directly on the internet at http://www.trade.gov/ia/. The signed Issues and Decision Memorandum and the electronic versions of the Issues and Decision Memorandum are identical in content.

Period of Review

The POR is April 1, 2010, through March 31, 2011.

Scope of the Order

The merchandise covered by this order is frontseating service valves, assembled or unassembled, complete or incomplete, and certain parts thereof. Frontseating service valves are classified under subheading 8481.80.1095, and also have been classified under subheading 8415.90.80.85, of the Harmonized Tariff Schedule of the United States (“HTSUS”). It is possible for frontseating service valves to be manufactured out of primary materials other than copper and brass, in which case they would be classified under HTSUS subheadings 8481.80.3040, 8481.80.3090, or 8481.80.5090. In addition, if unassembled or incomplete frontseating service valves are imported, the various parts or components would be classified under HTSUS subheadings 8481.90.1000, 8481.90.3000, or 8481.90.5000. The HTSUS subheadings are provided for convenience and customs purposes, but the written description of the scope of this order, available in Antidumping Duty Order: Frontseating Service Valves from the People's Republic of China, 74 FR 19196 (April 28, 2009), remains dispositive.

Changes Since the Preliminary Results

Based on an analysis of the comments received, the Department has made the following changes in the margin calculation.

• We valued the surrogate value for brass scrap using the HTS number for brass bar and rod. See Comment 2 of the accompanying Issues and Decision Memorandum.

• The Department recalculated the surrogate financial ratios using the financial statements of FVC Philippines, Inc. and Makati Foundry, Inc. See Comment 4 of the accompanying Issues and Decision Memorandum.

• We revised Sanhua's reported scrap adjustment to ensure that the reported raw materials account fully for the reported weight of each FSV model sold. See Comment 7 of the accompanying Issues and Decision Memorandum.

Final Results Margin

We determine the weighted-average dumping margins for the period April 1, 2010, through March 31, 2011, to be:

Frontseating Service Valves From the PRC
Exporter | Weighted-average margin (percentage)
Zhejiang DunAn Hetian Metal Co. Ltd | 0.00
Zhejiang Sanhua Co., Ltd | 0.00

Assessment Rates

Pursuant to section 751(a)(2)(A) of the Tariff Act of 1930, as Amended (“the Act”) and 19 CFR 351.212(b), the Department will determine, and U.S. Customs and Border Protection (“CBP”) shall assess, antidumping duties on all appropriate entries of subject merchandise in accordance with the final results of this review. Where the weighted-average margin of dumping for the exporter or producer is determined to be zero or de minimis, no assessment rates will be calculated and the Department will instruct CBP to liquidate all imports from the exporter or producer without regard to antidumping duties. The Department intends to issue assessment instructions to CBP 15 days after the date of publication of these final results of review.

Cash Deposit Requirements

The following cash deposit requirements will be effective upon publication of the final results of this administrative review for all shipments of the subject merchandise entered, or withdrawn from warehouse, for consumption on or after the publication date, as provided for by section 751(a)(2)(C) of the Act: (1) For DunAn and Sanhua, the cash deposit rate will be the rate identified in the Final Results Margin section, as listed above; (2) for previously investigated or reviewed PRC and non-PRC exporters not listed above that have separate rates, the cash deposit rate will continue to be the exporter-specific rate published for the most recent period; (3) for all PRC exporters of subject merchandise which have not been found to be entitled to a separate rate, the cash deposit rate will continue to be the PRC-wide rate of 55.62 percent; ¹³ and (4) for all non-PRC exporters of subject merchandise which have not received their own rate, the cash deposit rate will be the rate applicable to the PRC exporter that supplied that non-PRC exporter. The deposit requirements shall remain in effect until further notice.

¹³ This rate was established in the final results of the original investigation. See Frontseating Service Valves from the People's Republic of China: Final Determination of Sales at Less Than Fair Value and Final Negative Determination of Critical Circumstances, 74 FR 10886 (March 13, 2009).

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification to Interested Parties

This notice also serves as a reminder to parties subject to administrative protective orders (“APOs”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed within five days of the date of publication of this notice to parties in this proceeding in accordance with 19 CFR 351.224(b).

We are issuing and publishing the final results and notice in accordance with sections 751(a)(1) and 777(i)(1) of the Act.

Dated: November 2, 2012.
Paul Piquado,
Assistant Secretary for Import Administration.

Appendix I—Issues for the Final Results

Comment 1: Surrogate Country Selection

Comment 2: Surrogate Value for Brass Bar and Rod

Comment 3: Surrogate Value for Brass Scrap

Comment 4: Financial Ratios

Comment 5: Brokerage and Handling for DunAn

Comment 6: Use of Historical FOPs for Models Produced Prior to the POR for DunAn

Comment 7: Sanhua's Brass Scrap Generation Is Overstated

[FR Doc. 2012-27424 Filed 11-8-12; 8:45 am]

BILLING CODE P